DEPARTMENT OF HEALTH AND HUMAN SERVICES

Centers for Disease Control and Prevention

[Docket No. CDC-2022-0014]

Record of Decision for the Final Supplemental Environmental Impact Statement for the Roybal Campus 2025 Master Plan; Correction

AGENCY: Centers for Disease Control and Prevention (CDC), Department of Health and Human Services (HHS).

ACTION: General notice.

SUMMARY: On November 17, 2022, the Centers for Disease Control and Prevention (CDC), within the Department of Health and Human Services (HHS), published a notice in the Federal Register announcing the Record of Decision (ROD) for the Final Supplemental Environmental Impact Statement (SEIS) for CDC's Roybal Campus in Atlanta, Georgia. In the Decision section of the notice, the description of the incinerator was incorrect.

FOR FURTHER INFORMATION CONTACT: Thayra Riley, NEPA Coordinator, Office of Safety, Security, and Asset Management, Centers for Disease Control and Prevention, 1600 Clifton Road NE, Mailstop H20-4, Atlanta, Georgia 30329. Email: cdc-roybalga-seis@cdc.gov. Telephone: 770-488-8170.

SUPPLEMENTARY INFORMATION:

Correction

In the Decision section of the Federal Register notice of November 17, 2022 (87 FR 69023), center column, the description of the incinerator was labeled as a Hazardous/Medical/Infectious Waste Incinerator. The correct description is a Hospital/Medical/Infectious Waste Incinerator. The correct Decision section to read:

Decision

Based on the Final SEIS, CDC has decided to implement Alternative 1 (Preferred Alternative) as the selected alternative. This Alternative includes the construction and operation of a new Hospital/Medical/Infectious Waste Incinerator in a new laboratory building, the operation of two proposed emergency standby power diesel generators to support that laboratory, and annual testing of the generators. According to the analysis, no potential significant impacts were identified for the selected alternative.

CDC's decision is based on an analysis of the potential impacts of the alternatives considered in the SEIS weighed against CDC's continuing need to fulfill its unique and critical public health mission and its ability to mitigate in whole or in part the adverse impacts. CDC also considered the input from the public and agencies, such as the U.S. Fish and Wildlife Service, Georgia Department of Natural Resources, Georgia Environmental Protection Division, and Georgia Historic Preservation Division.

Availability of the ROD: The ROD is available in the Supplemental Materials tab of the docket found on the Federal eRulemaking Portal at https://www.regulations.gov, identified by Docket No. CDC-2022-0014.

Dated: December 15, 2022.
Angela K. Oliver,
Executive Secretary, Centers for Disease Control and Prevention.

[FR Doc. 2022-27584 Filed 12-19-22; 8:45 am]

BILLING CODE 4163-18-P